DEPARTMENT OF AGRICULTURE

Forest Service

Virginia Resource Advisory Committee Meetings

AGENCY: Forest Service, USDA.

ACTION: Notice of meetings.

SUMMARY: The Virginia Resource Advisory Committee (RAC) will meet in Roanoke, Virginia on the dates listed below. The Committee is authorized under the Secure Rural Schools and Community Self-Determination Act of 2000 (the Act) (Pub. L. 112-141) and operates in compliance with the Federal Advisory Committee Act (FACA) (Pub. L. 92-463). The RAC's purposes are to improve collaborative relationships and to provide advice and recommendations to the Forest Service concerning projects and funding consistent with Title II of the Act. The meeting is open to the public. The purpose of the meeting is to prioritize and recommend projects for funding.

DATES: The meetings will be held every Friday between August 23, 2013, and September 27, 2013, from 10 a.m. to 6 p.m. (EST) Exact meeting dates are as follow:

1. August 23, 2013—10 a.m. to 6 p.m.

2. August 30, 2013—10 a.m. to 6 p.m.

3. September 6, 2013—10 a.m. to 6 p.m.

4. September 13, 2013—10 a.m. to 6 p.m.

5. September 20, 2013—10 a.m. to 6 p.m.

6. September 27, 2013—10 a.m. to 6 p.m.

All Resource Advisory Committee meetings are subject to change or cancellation. For status of Resource Advisory Committee meetings prior to attending each meeting, contact: Michael Williams, Public Affairs Specialist, Supervisor's Office, 540-265-5173, mrwilliams04@fs.fed.us.

ADDRESSES: The meeting will be held at the George Washington and Jefferson National Forests Supervisor's Office Conference Room at 5162 Valleypointe Parkway, Roanoke, Virginia. Written comments may be submitted as described under Supplementary Information listed below. All comments, including names and addresses when provided, are placed in the record and are available for public inspection and copying. The public may inspect comments received at the George Washington and Jefferson National Forests Supervisor's Office. Please call ahead to 540-265-5100 to facilitate entry into the building in order to view comments.

FOR FURTHER INFORMATION CONTACT: Michael Williams, Public Affairs Specialist, Supervisor's Office, 540-265-5173, mrwilliams04@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Additional information on the Virginia Resource Advisory Committee can be found by visiting the George Washington and Jefferson National Forests' Web site at: www.fs.fed.us/r8/gwj. Anyone who would like to bring related matters to the attention of the Committee may file written statements with the Committee staff before or after the meeting. The agenda will include time for people to make oral statements of three minutes or less. Individuals wishing to make an oral statement should request in writing within one week of each scheduled meeting to be scheduled on the agenda. Written comments and requests for time for oral comments must be sent to Michael Williams, Public Affairs Specialist, George Washington and Jefferson National Forests, Supervisor's Office, 5162 Valleypointe Parkway, Roanoke, Virginia 24019; Email: mrwilliams04@fs.fed.us; or Facsimile: 540-265-5145.

A summary of the meeting will be posted at www.fs.fed.us/r8/gwj within 21 days of the meeting.

If you are a person requiring reasonable accommodation, please make requests in advance for sign language interpreting, assistive listening devices, or other reasonable accommodations for access to the facility for proceedings by contacting the person listed under FOR FURTHER INFORMATION CONTACT. All reasonable accommodation requests are managed on a case by case basis.

Dated: July 10, 2013.
H. Thomas Speaks, Jr.,
Forest Supervisor.

[FR Doc. 2013-17155 Filed 7-16-13; 8:45 am]

BILLING CODE 3410-11-P